FEDERAL COMMUNICATIONS COMMISSION

47 CFR Parts 1, 25, 73, and 74

[GN Docket No. 15-236; Report No. 3069]

Petition for Reconsideration of Action in Rulemaking Proceeding

AGENCY: Federal Communications Commission.

ACTION: Petition for reconsideration.

SUMMARY: A Petition for Reconsideration (Petition) has been filed in the Commission's rulemaking proceeding by William J. Kirsch.

DATES: Oppositions to the Petition must be filed on or before February 16, 2017. Replies to an opposition must be filed on or before February 27, 2017.

ADDRESSES: Federal Communications Commission, 445 12th Street SW., Washington, DC 20554.

FOR FURTHER INFORMATION CONTACT: Gabrielle Kim, Telecommunications and Analysis Division, International Bureau, at (202) 418-0730 or email: Gabrielle.Kim@fcc.gov.

SUPPLEMENTARY INFORMATION: This is a summary of the Commission's document, Report No. 3069, released January 18, 2017. The full text of the Petition is available for viewing and copying at the FCC Reference Information Center, 445 12th Street SW., Room CY-A257, Washington, DC 20554. It also may be accessed online via the Commission's Electronic Comment Filing System at: https://www.fcc.gov/ecfs/filing/10140052019674/document/10140052019674d6b8. The Commission will not send a copy of this document pursuant to the Congressional Review Act, 5 U.S.C. 801(a)(1)(A), because this document does not have an impact on any rules of particular applicability.

Subject: In the Matter of Review of Foreign Ownership Policies for Broadcast, Common Carrier and Aeronautical Radio Licensees under section 310(b)(4) of the Communications Act of 1934, as amended, FCC 16-128, published at 81 FR 86586, December 1, 2016, in GN Docket No. 15-236. This document is being published pursuant to 47 CFR 1.429(e). See also 47 CFR 1.4(b)(1) and 1.429(f), (g).

Number of Petitions Filed: 1.

Federal Communications Commission.
Katura Howard,
Federal Register Liaison Officer, Office of the Secretary.

[FR Doc. 2017-02120 Filed 1-31-17; 8:45 am]

BILLING CODE 6712-01-P